DEPARTMENT OF LABOR

Employment and Training Administration

Notice of Availability of Funds and Funding Opportunity Announcement for Women in Apprenticeship and Nontraditional Occupations (WANTO) Technical Assistance (TA) Grants

AGENCY: Employment and Training Administration, Labor.

ACTION: Notice of Funding Opportunity Announcement (FOA).

Funding Opportunity Number: FOA-ETA-16-11.

SUMMARY: The Employment and Training Administration (ETA), U.S. Department of Labor, Women's Bureau, and the Office of Apprenticeship announces the availability of approximately $1,988,000.00 in grant funds authorized by the Women in Apprenticeship and Nontraditional Occupations (WANTO) Act of 1992, Public Law 102-530, 29 U.S.C. 2501 et seq. Awards made under this announcement are subject to the availability of Federal funds.

The Department plans to disburse Program Year (PY) 2015/16 WANTO grant funds to up to four (4) community-based organization (CBO) grantees with the ceiling amount of up to $650,000 to develop and operate innovative technical assistance projects to improve outreach, recruitment, hiring, training, employment, and retention of women including for, women of color and women with disabilities in apprenticeships and nontraditional occupations, as defined in Section VIII.A of the FOA. These awards will have a 24-month period of performance. The anticipated start date is July 1, 2016.

The complete FOA and any subsequent FOA amendments in connection with this funding opportunity are described in further detail on ETA's Web site at https://www.doleta.gov/grants/find_grants.cfm_ or on http://www.grants.gov. The Web sites provide application information, eligibility requirements, review and selection procedures, and other program requirements governing this funding opportunity.

DATES: The closing date for receipt of applications under this announcement is May 6, 2016. Applications must be received no later than 4:00:00 p.m. Eastern Time.

FOR FURTHER INFORMATION CONTACT: Andrea Hill, 200 Constitution Avenue NW., Room N-4716, Washington, DC 20210; Telephone: 202-693-3542.

The Grant Officer for this FOA is Latifa Jeter.

Signed April 12, 2016 in Washington, DC.
Eric D. Luetkenhaus,
Grant Officer, Employment and Training Administration.

[FR Doc. 2016-08744 Filed 4-14-16; 8:45 am]

BILLING CODE 4510-FN-P